NATIONAL AERONAUTICS AND SPACE ADMINISTRATION

[Notice (06-042)]

NASA International Space Station Independent Safety Task Force; Meeting

AGENCY: National Aeronautics and Space Administration (NASA).

ACTION: Notice of meeting.

SUMMARY: In accordance with the Federal Advisory Committee Act, Public Law 92-463, as amended, the National Aeronautics and Space Administration announces a forthcoming meeting of the International Space Station Independent Safety Task Force (IISTF).

DATES: Tuesday, July 25, 2006, 8 a.m. to 5 p.m.; Wednesday, July 26, 2006, 8 a.m. to 5 p.m.; and Thursday, July 27, 2006, 8 a.m. to 12 Noon, Central Daylight Time.

ADDRESSES: NASA Lyndon B. Johnson Space Center, 2101 NASA Parkway, Bldg. 1, Room 966, Houston, TX 77058.

FOR FURTHER INFORMATION CONTACT: Ms. Melissa Y. Gard, IISTF Executive Director, National Aeronautics and Space Administration, Lyndon B. Johnson Space Center, Houston, TX 77058, telephone (281) 244-7980, e-mail melissa.y.gard@nasa.gov.

SUPPLEMENTARY INFORMATION: This meeting will be open to the public up to the seating capacity of the room (20). Seating will be on a first-come basis. The agenda for the meeting includes the following topics:

—Presentations related to the IISTF's charter to assessing any vulnerabilities of the ISS that could lead to its destruction, compromise the health of its crew, or necessitate its premature abandonment.

Attendees will be requested to sign a register and to comply with NASA security requirements, including the presentation of a valid picture ID, before receiving an access badge. To expedite admittance, attendees should provide identifying information in advance by contacting Ms. Jana Schultz via e-mail at jana.t.schultz@nasa.gov or by telephone at (281) 244-7913 by July 20, 2006. Foreign nationals that wish to attend this meeting will be required to provide the following information: Full name; gender; date/place of birth; citizenship; visa/green card information (number, type, expiration date); passport information (number, country, expiration date); employer/affiliation information (name of institution, address, country, phone); title/position of attendee not less than 10 days prior to the meeting in order to process their security check and provide sufficient escorts for admittance on to Johnson Space Center.

Members of the public may make five minute verbal presentations to the Task Force on the subject of International Space Station safety. All those wishing to make such a statement in front of the Task Force are requested to contact Ms. Jana Schultz via e-mail at jana.t.schultz@nasa.gov or by telephone at (281) 244-7913 by July 20, 2006, prior to the first day of the meeting. If public requests to speak are received, they will be heard during the first 30 minutes of the July 25, 2006, meeting on a first-come basis. Any member of the public is permitted to file a written statement with the Task Force at the time of the meeting. Verbal presentations and written comments should be limited to the subject of International Space Station safety.

It is imperative that the meeting be held on these dates to accommodate the scheduling priorities of the key participants.

Michael F. O'Brien,
Assistant Administrator, Office of External Relations.

[FR Doc. E6-10323 Filed 6-29-06; 8:45 am]

BILLING CODE 7510-13-P